GENERAL SERVICES ADMINISTRATION

[OMB Control No. 3090-00xx; Docket 2013-0001; Sequence 5]

Agency Information Collection Activities; Information Collection; USA Spending

AGENCY: Interagency Policy and Management Division, Office of Governmentwide Policy, U.S. General Services Administration (GSA).

ACTION: Notice of request for public comments regarding a new OMB clearance.

SUMMARY: Under the provisions of the Paperwork Reduction Act, the General Services Administration will be submitting to the Office of Management and Budget (OMB) a request to review and approve a new information collection requirement regarding USA Spending.

DATES: Submit comments on or before June 24, 2013.

ADDRESSES: Submit comments identified by Information Collection 3090-00xx, USA Spending, by any of the following methods:

• Regulations.gov: http://www.regulations.gov. Submit comments via the Federal eRulemaking portal by searching the OMB control number. Select the link “Submit a Comment” that corresponds with “Information Collection 3090-00xx, USA Spending.” Follow the instructions provided at the “Submit a Comment” screen. Please include your name, company name (if any), and “Information Collection 3090-00xx, USA Spending” on your attached document.

• Fax: 202-501-4067.

• Mail: General Services Administration, Regulatory Secretariat (MVCB), 1275 First Street NE., Washington, DC 20417. ATTN: Hada Flowers/IC 3090-00xx, USA Spending.

Instructions: Please submit comments only and cite Information Collection 3090-00xx, USA Spending, in all correspondence related to this collection. All comments received will be posted without change to http://www.regulations.gov, including any personal and/or business confidential information provided.

FOR FURTHER INFORMATION CONTACT: Mary Searcy, Acquisition Systems for Award Management Division, Office of Governmentwide Policy, General Services Administration, 1275 First Street NE., Washington, DC 20417; telephone number: 703-603-8132; or email address Mary.Searcy@gsa.gov.

SUPPLEMENTARY INFORMATION:

A. Purpose

USASpending.gov is required by the Federal Funding Accountability and Transparency Act (Transparency Act). The site provides the public with information about how tax dollars are spent. The site provides data about the various types of contracts, grants, loans and other types of spending in the federal government.

B. Annual Reporting Burden

Number of Respondents: 5,000.

Responses per Respondent: 1.

Total Responses: 5,000.

Average Burden Hours per Response: .25.

Total Burden Hours: 1250.

Obtaining Copies of Proposals: Requesters may obtain a copy of the information collection documents from the General Services Administration, Regulatory Secretariat (MVCB), 1275 First Street NE., Washington, DC 20417, telephone (202) 501-4755. Please cite OMB Control Number 3090-00xx, USA Spending, in all correspondence.

Dated: April 17, 2013.
Casey Coleman,
Chief Information Officer.

[FR Doc. 2013-09573 Filed 4-23-13; 8:45 am]

BILLING CODE 6820-WY-P